DEPARTMENT OF HOMELAND SECURITY

Coast Guard

33 CFR Part 117

[Docket No. USCG-2016-0088]

Drawbridge Operation Regulation; Gulf Intracoastal Waterway, Galveston, TX

AGENCY: Coast Guard, DHS.

ACTION: Notice of deviation from drawbridge regulations.

SUMMARY: The Coast Guard has issued a temporary deviation from the operating schedule that governs the Galveston Causeway Railroad Vertical Lift Bridge across the Gulf Intracoastal Waterway, mile 357.2 west of Harvey Locks, at Galveston, Galveston County, Texas. The deviation is necessary to conduct maintenance on the bridge. This deviation allows the bridge to remain temporarily closed to navigation for two four-hour periods, on five consecutive days during day-light hours.

DATES: This deviation is effective from March 7 through March 11, 2016.

ADDRESSES: The docket for this deviation, [USCG-2016-0088] is available at http://www.regulations.gov. Type the docket number in the “SEARCH” box and click “SEARCH”. Click on Open Docket Folder on the line associated with this deviation.

FOR FURTHER INFORMATION CONTACT: If you have questions on this temporary deviation, call or email Jim Wetherington, Bridge Administration Branch, Coast Guard; telephone 504-671-2128, email james.r.wetherington@uscg.mil.

SUPPLEMENTARY INFORMATION: The Burlington Northern Santa Fe Railway Company requested a temporary deviation from the operating schedule of the Galveston Causeway Railroad Vertical Lift Bridge across the Gulf Intracoastal Waterway, mile 357.2 west of Harvey Locks, at Galveston, Galveston County, Texas. This deviation was requested to allow the bridge owner to complete cable lubing and scheduled semi-annual maintenance. This bridge is governed by 33 CFR 117.5.

This deviation allows the vertical lift bridge to remain closed to navigation from 7 a.m. to 11 a.m. and then again from 1 p.m. to 5 p.m., daily, beginning March 7 through March 11, 2016. The bridge has a vertical clearance of 8.0 feet above mean high water, elevation 3.0 feet (NAVD88), in the closed-to-navigation position and 73 feet above mean high water in the open-to-navigation position. Navigation at the site of the bridge consists mainly of tows with barges and some recreational pleasure craft.

Vessels able to pass through the bridge in the closed position may do so at any time and should pass at the slowest safe speed. The bridge can open in case of emergency. No alternate routes are available.

The Coast Guard will also inform the users of the waterways through our Local and Broadcast Notices to Mariners of the change in operating schedule for the bridge.

In accordance with 33 CFR 117.35(e), the drawbridge must return to its regular operating schedule immediately at the end of the effective period of this temporary deviation. This deviation from the operating regulations is authorized under 33 CFR 117.35.

Dated: February 5, 2016.
David M. Frank,
Bridge Administrator, Eighth Coast Guard District.

[FR Doc. 2016-02777 Filed 2-10-16; 8:45 am]

BILLING CODE 9110-04-P